SELECTIVE SERVICE SYSTEM

32 CFR Part 1665

RIN 3240-AA04

Social Security Number Fraud Prevention Act of 2017 Implementation; Correction

AGENCY: United States Selective Service System.

ACTION: Final rule; request for comments; correction.

SUMMARY: This document makes a technical correction in the preamble to a rule entitled Social Security Number Fraud Prevention Act of 2017 Implementation, which the Selective Service System published in the Federal Register of November 16, 2023. This notification corrects the effective date of the final rule.

DATES: This correction is effective November 29, 2023.

FOR FURTHER INFORMATION CONTACT: Ms. Kelly Cramer, Selective Service System, Office of the General Counsel, 703-605-4069, kcramer@sss.gov.

SUPPLEMENTARY INFORMATION:

Correction

In the Federal Register of November 16, 2023, starting on page 78639 in FR Doc 2023-25036, make the following corrections:

1. On page 78639, in the third column, the ACTION line is corrected to read “ACTION: Final rule; request for comments.”.

2. On page 78640, in the first column, correct the DATES caption to read: DATES: The rule is effective November 29, 2023, and applicable beginning November 16, 2023. Comments, if any, are requested by December 13, 2023.

3. On page 78640, in the second column, correct the first sentence under the heading “Administrative Procedure Act” to read “The Agency finds good cause to publish this as a final rule because the notice and public procedure thereon are impracticable, unnecessary, or contrary to the public interest because this rule expands protections to the public.”

Daniel A. Lauretano, Sr.,
General Counsel.

[FR Doc. 2023-26305 Filed 11-29-23; 8:45 am]

BILLING CODE P